DEPARTMENT OF HOMELAND SECURITY

National Protection and Programs Directorate, Office of Grants and Training, Assistance to Firefighters Program Office; Agency Information Collection Activities: Submission for OMB review; Comment Request on a Reinstating Collection (Application for Assistance to Firefighters Grants (AFG))

AGENCY: Department of Homeland Security, National Protection and Programs Directorate, Office of Grants and Training. Assistance to Firefighters Program Office.

ACTION: Notice; 30-day notice of information collection under review.

SUMMARY: The Department of Homeland Security (DHS), has submitted the following information collection to the Office of Management and Budget (OMB) for review and clearance in accordance with the requirements of the Paperwork Reduction Act of 1995 (Pub. L. 104-13, 44 U.S.C. Chapter 35). The information collection was previously published in the Federal Register on October 24, 2006, Vol 71, Page 62273 allowing for a 60-day public comment period. No comments were received on this existing information collection. The purpose of this notice is to allow an additional 30 days for public comments. The submission describes the nature of the information collection, the categories of respondents, the estimated burden (i.e., the time, effort and resources used by respondents to respond) and cost, and includes the actual data collection instruments DHS will use. This collection was previously referenced as 3067-0285. The number of collection has been corrected to 1660-0054.

DATES: Comments are encouraged and will be accepted until August 22, 2007. This process is conduced in accordance with 5 CFR 1320.10.

Comments: Interested persons are invited to submit written comments on the proposed information collection to the Office of Information and Regulatory Affairs, Office of Management and Budget. Comments should be addressed to Nathan Lesser, Desk Officer, Department of Homeland Security/Grants and Training, and sent via electronic mail to oira_submission@omb.eop.gov or faxed to (202) 395-6974.

The Office of Management and Budget is particularly interested in comments which:

(1) Evaluate whether the proposed collection of information is necessary for the proper performance of the functions of the agency, including whether the information will have practical utility;

(2) Evaluate the accuracy of the agency's estimate of the burden of the proposed collection of information, including the validity of the methodology and assumptions used;

(3) Enhance the quality, utility, and clarity of the information to be collected; and

(4) Minimize the burden of the collection of information on those who are to respond, including through the use of appropriate automated, electronic, mechanical, or other technological collection techniques or other forms of information technology, e.g., permitting electronic submissions of responses.

FOR FURTHER INFORMATION CONTACT: A copy of this ICR, with applicable supporting documentation, may be obtained by calling Nathan Lesser, Desk Officer, Department of Homeland Security Washington, DC 20528; and sent via electronic mail to oira_submission@omb.eop.gov or faxed to (202) 395-6974 (this is not a toll free number).

SUPPLEMENTARY INFORMATION:

Analysis

Agency: National Protection and Programs Directorate, Office of Grants and Training, Assistance to the Firefighters Program Office, Department of Homeland Security.

Title: Staffing for Adequate Fire and Emergency Response grants program.

Title: Assistance in Firefighters Grants (AFG).

OMB Number: 1660-0054.

Frequency of Response: On occasion.

Affected Public: Fire departments; not-for-profit institutions; local or tribal government.

Number of Respondents: 25,000 applicants; 7,000 awardees.

Estimated Time per Respondent: 12 hours for application; 4 hours for administration.

FF20-10: Summary Sheet for Assurances and Certifications—1 hour.

FF20-16: Summary Sheet for Assurances and Certifications—1.7 hours.

FF16A: Assurances—Construction Program—1.7 hours.

FF16B: Financial Status Report—1.7 hours.

FF16C: Certifications Regarding Lobbying; Debarment, Suspension and Other Responsibilities—1.7 hours.

FF20-20: Budget Information—Non-Construction Programs—9.7 hours.

Estimated Total Annual Burden Hours: 28,000 hours for grantee administration.

Description: Information sought under this submission will comprise the grant application for Assistance to Firefighters Grants. This submission is necessary in order for Department of Homeland Security (DHS) to effectively implement a competitive grant program. One of the twelve eligible activities is fire prevention and safety (FP&S). Fire departments and National, State, regional and local organizations are eligible to apply for assistance under FP&S. Because of the complexities of eligibility and the various projects that are eligible under this activity, DHS has elected to have an application period for FP&S that is separate from the FIRE Grants application period. This collection is for both applications. The information collected will be used to objectively evaluate each of the 20,000 to 25,000 anticipated applicants to determine which of the applicants' proposals in each of the activities are the closest to the established program priorities. The information is necessary in order for DHS to assess the financial needs of the applicants as well as the projected benefits to be obtained from the use of the grant funds. DHS will also use the information to determine eligibility and whether the proposed use of funds meets the requirements and intent of the legislation.

For the FY 2007 program year, there will be two functional areas under FIRE Grants that the applicants can spend the grant funds: (1) Fire Operations and Firefighter Safety (which includes emergency medical activities, training, wellness and fitness programs, firefighting equipment, and personal protection equipment), and (2) Acquisition of Response Vehicles.

Dated: July 17, 2007.
Fawn Pettigrew,
Director of Operations, National Programs and Protection Directorate, Department of Homeland Security.

[FR Doc. E7-14141 Filed 7-20-07; 8:45 am]

BILLING CODE 4410-10-P